DEPARTMENT OF HEALTH AND HUMAN SERVICES

Centers for Disease Control and Prevention

[30Day-19-1108]

Agency Forms Undergoing Paperwork Reduction Act Review

In accordance with the Paperwork Reduction Act of 1995, the Centers for Disease Control and Prevention (CDC) has submitted the information collection request titled Paul Coverdell National Acute Stroke Program (PCNASP) to the Office of Management and Budget (OMB) for review and approval. CDC previously published a “Proposed Data Collection Submitted for Public Comment and Recommendations” notice on February 7, 2019 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Paul Coverdell National Acute Stroke Program (PCNASP) (OMB No. 0920-1108, exp. 03/31/2019)—Reinstatement with Change—National Center for Chronic Disease Prevention and Health Promotion (NCCDPHP), Centers for Disease Control and Prevention (CDC).

Background and Brief Description

Stroke is the fifth leading cause of death in the United States and results in approximately 145,000 deaths per year. Additionally, approximately 800,000 stroke events are reported each year, including approximately 185,000 recurrent strokes. However, many strokes are preventable, and patient outcomes can be improved through coordinated care that begins at stroke onset and is delivered in a timely manner.

Stroke outcomes depend upon the rapid recognition of signs and symptoms of stroke, prompt transport to a treatment facility, and early rehabilitation. Improving outcomes requires a coordinated systems approach involving pre-hospital care, emergency department and hospital care, prevention of complications, post-stroke rehabilitation, and ongoing secondary prevention. Through the Paul Coverdell National Acute Stroke Program (PCNASP), CDC has been continuously working to measure and improve acute stroke care using well-known quality improvement strategies coupled with frequent evaluation of results. PCNASP awardees are state health departments who work with participating hospitals, Emergency Medical Services (EMS) agencies, and other healthcare partners (e.g., post-stroke recovery facilities) in their jurisdictions to improve quality of care and transitions of care for stroke patients. During initial cooperative agreement cycles, PCNASP awardees focused on improving in-hospital quality of care (QoC) with technical assistance provided by CDC. Through lessons learned during this process and other supporting evidence in the field, it has become evident that it is also important to examine pre- and post-hospital transitions of care to link the entire continuum of stroke care when improving QoC for stroke patients.

The PCNASP's current five-year cooperative agreement started on July 1, 2015 and includes nine awardees and their selected partners (hospitals, EMS agencies, other healthcare facilities). This current funding reflects additional emphasis on pre-hospital quality of care as well as the post-hospital transition of care setting from hospital to home or other healthcare facility. With technical assistance provided by CDC, awardees have worked on identifying and using data systems to systematically collect and report data on all three phases of the stroke care continuum and on hospital capacity.

PCNASP had OMB approval for the collection of pre-hospital (EMS), in-hospital, and post-hospital patient care data, as well as hospital inventory data (OMB No. 0920-1108). This approval expired on 3/31/2019, and awardees have discontinued data submission. The lapsed information collection will resume after OMB approval of a reinstatement package.

When possible, in-hospital patient care data continues to align with standards set by The Joint Commission (TJC) and the American Heart Association's Get With The Guidelines (GWTG) program. There are no changes to the estimated burden for the collection of in-hospital data. The average burden per response remains 30 minutes for awardees, for a total of 18 hours annually.

Data collection methods for pre- and post-hospital care data are revised to allow for information collection through existing data systems, including GWTG and the National Emergency Medical Services Information System (NEMSIS). CDC has worked with awardees, the American Heart Association and NEMSIS to identify areas of alignment and new collaboration to reduce the burden of pre-hospital data collection. The average burden per response will vary from 30 minutes to two hours. Thus, the burden for pre-hospital data is being reduced from 96 to 60 burden hours annually. Similarly, the burden for post-hospital data is reduced from 38 to 22 burden hours annually, because data collection will occur using GWTG or another similar mechanism, and data will be transmitted automatically to awardees. The average burden per response will vary from 30 minutes to two hours per quarter for post-hospital data collection.

Primary data collection of hospital inventory data is collected to understand the capacity and infrastructure of the hospitals that admit and treat stroke patients. The average burden per response remains 30 minutes for hospitals, and eight hours for each PCNASP awardee to prepare an aggregate hospital inventory file. The number of respondents is increasing from 315 to 378 hospital partners due to increased participation in PCNASP. Thus, the burden for hospital inventory data is increasing from 230 to 261 hours annually.

These requested changes will result in a net decrease in total average burden from 382 to 361 hours. All patient, hospital, and EMS provider data that is submitted to CDC by PCNASP awardees will be de-identified and transmitted through secure data systems. Proposed data elements and quality indicators may be updated over time to include new or revised items based on evolving recommendations and standards in the field to improve the quality of stroke care.

OMB approval is requested for three years. Participation is voluntary and there are no costs to respondents other than their time.

Estimated Annualized Burden Hours
Type of respondents | Form name | Number of respondents | Number of responses per respondent | Average burden per response (in hours)
PCNASP Awardee | Hospital inventory | 9 | 1 | 8
— | In-hospital care data | 9 | 4 | 30/60
| Pre-hospital care data | 2 | 4 | 30/60
| 7 | 4 | 2
| Post-hospital transition of care data | 7 | 4 | 30/60
| 2 | 4 | 1
PCNASP Hospital Partners | Hospital Inventory | 378 | 1 | 30/60

Jeffrey M. Zirger,
Lead, Information Collection Review Office, Office of Scientific Integrity, Office of Science, Centers for Disease Control and Prevention.

[FR Doc. 2019-13054 Filed 6-19-19; 8:45 am]

BILLING CODE 4163-18-P